DEPARTMENT OF AGRICULTURE

Animal and Plant Health Inspection Service

[Docket No. 00-057-1]

Notice of Request for Extension of Approval of an Information Collection

AGENCY: Animal and Plant Health Inspection Service, USDA.

ACTION: Extension of approval of an information collection; comment request.

SUMMARY: In accordance with the Paperwork Reduction Act of 1995, this notice announces the Animal and Plant Health Inspection Service's intention to request an extension of approval of an information collection in support of regulations intended to prevent the introduction of foreign plant pests into the United States.

DATES: We invite you to comment on this docket. We will consider all comments that we receive by August 21, 2000.

ADDRESSES: Please send your comment and three copies to: Docket No. 00-057-1, Regulatory Analysis and Development, PPD, APHIS, Suite 3C03, 4700 River Road, Unit 118, Riverdale, MD 20737-1238. Please state that your comment refers to Docket No. 00-057-1.

You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: For information regarding the Cooperative Agricultural Pest Survey, contact Ms. Coanne O'Hern, Operations Officer, Program Support Staff, PPQ, APHIS, 4700 River Road Unit 134, Riverdale, MD 20737-1236; (301) 734-8717. For copies of more detailed information on the information collection, contact Ms. Cheryl Groves, APHIS' Information Collection Coordinator, at (301) 734-5086.

SUPPLEMENTARY INFORMATION: Title: Cooperative Agricultural Pest Survey.

OMB Number: 0579-0010.

Expiration Date of Approval: August 31, 2000.

Type of Request: Extension of approval of an information collection.

Abstract: The United States Department of Agriculture (USDA) is responsible for preventing foreign plant pests from entering the United States, preventing the spread of pests not widely distributed within the United States, and eradicating those pests when eradication is feasible. The Plant Quarantine Act and the Federal Plant Pest Act authorize the Department to carry out this mission.

The Plant Protection and Quarantine (PPQ) division of USDA's Animal and Plant Health Inspection Service is responsible for implementing the regulations that carry out the intent of these Acts.

To this end, PPQ has joined forces with the States to create a program called the Cooperative Agricultural Pest Survey.

This program allows the States and PPQ to conduct surveys to detect and measure the presence of foreign plant pests of concern and to enter survey data into a national computer-based system called the National Agricultural Plant Information System. This, in turn, allows us to obtain a more comprehensive picture of plant pest conditions in the United States.

The information generated by this program is used by the States to predict potential plant pest situations. It is used by Federal interests to promptly detect and respond to the occurrence of new pests and to record the location of those pest incursions that could directly hinder the export of U.S. farm commodities.

Plant pests such as insects or certain bacteria have the potential to cause billions of dollars in damage to U.S. agriculture if they become established within the United States.

Our Cooperative Agricultural Pest Survey entails the use of several information collection activities, including a Cooperative Agreement, Cooperative Agricultural Pest Survey procedures, and a Specimens for Determination Form (PPQ Form 391).

We are asking the Office of Management and Budget (OMB) to approve, for an additional 3 years, our use of this information collection activity in connection with our survey work.

The purpose of this notice is to solicit comments from the public (as well as affected agencies) concerning this information collection activity. These comments will help us:

(1) Evaluate whether the information collection is necessary for the proper performance of our Agency's functions, including whether the information will have practical utility;

(2) Evaluate the accuracy of our estimate of the burden of the information collection, including the validity of the methodology and assumptions used;

(3) Enhance the quality, utility, and clarity of the information to be collected; and

(4) Minimize the burden of the collection of information on those who are to respond, through use, as appropriate, of automated, electronic, mechanical, and other collection technologies, e.g., permitting electronic submission of responses.

Estimate of burden: The public reporting burden for this collection of information is estimated to average .04122 hours per response.

Respondents: State cooperators participating in our Cooperative Agricultural Pest Survey.

Estimated annual number of respondents: 50.

Estimated annual number of responses per respondent: 701.

Estimated annual number of responses: 35,050.

Estimated total annual burden on respondents: 1,445 hours. (Due to rounding, the total annual burden hours may not equal the product of the annual number of responses multiplied by the average reporting burden per response.)

All responses to this notice will be summarized and included in the request for OMB approval. All comments will also become a matter of public record.

Done in Washington, DC, this 15th day of June 2000.
Craig A. Reed,
Administrator, Animal and Plant Health Inspection Service.

[FR Doc. 00-15623 Filed 6-20-00; 8:45 am]

BILLING CODE 3410-34-U